DEPARTMENT OF THE INTERIOR

National Park Service

Notice of Inventory Completion: Hastings Museum of Natural and Cultural History, Hastings, NE

AGENCY: National Park Service, Interior.

ACTION: Notice.

Notice is here given in accordance with the Native American Graves Protection and Repatriation Act (NAGPRA), 25 U.S.C. 3003, of the completion of an inventory of human remains in the possession of Hastings Museum of Natural and Cultural History, Hastings, NE. The human remains were removed from Douglas County, NE.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Hastings Museum of Natural and Cultural History professional staff in consultation with representatives of the Omaha Tribe of Nebraska; Otoe-Missouria Tribe of Indians, Oklahoma; Pawnee Nation of Oklahoma; Ponca Tribe of Indians of Oklahoma; Ponca Tribe of Nebraska; Three Affiliated Tribes of the Fort Berthold Reservation, North Dakota; and Wichita and Affiliated Tribes (Wichita, Keechi, Waco & Tawakonie), Oklahoma.

On an unknown date, human remains representing a minimum of three individuals were removed from unknown sites in the area of Omaha, Douglas County, NE. The human remains were donated to the Hastings Museum by A.M. Brooking and cataloged between 1926 and 1931 (03194, 03195, 03196). No known individuals were identified. No associated funerary objects are present.

On an unknown date, human remains representing a minimum of one individual were removed from an unknown site in the area of Omaha, Douglas County, NE. The human remains were donated to the Hastings Museum by J.E. Wallace and cataloged between 1926 and 1931 (01611). No known individual was identified. No associated funerary objects are present.

The above human remains have been identified in morphology reports as being of Native American descent. The region near Omaha has been occupied by numerous cultures that have been identified in the archeological records. These cultures include Plains Woodland, Central Plains Tradition, Oneota, and historic tribes of the Oto-Missouria and Omaha. Pawnee oral tradition states that the Central Plains Tradition people are ancestors to the Arikara and Pawnee, and possibly the Wichita. According to Pawnee oral history, the Plains Woodlands people are ancestors to the Pawnee, Mandan, Arikara, Hidatsa, and Crow. Oral history information has some of the people of Mill Creek staying behind and becoming part of the Central Plains Tradition based on common oral traditions through origin and corn stories.

Museum officials have determined based on museum records, geographic location, Pawnee oral tradition, and anthropological research that the Central Plains Tradition people are ancestors to the Arikara and Pawnee, and possibly the Wichita. In addition, museum officials have determined based on museum records, geographic location, and oral tradition that the Plains Woodland people are ancestors of the Arikara, Crow, Hidatsa, Mandan, and Pawnee.

Based on museum records, geographical location, and morphology reports, museum officials have determined that the human remains are possibly Plains Woodland, Central Plains Tradition, Oneota, Omaha, or Oto-Missiouria. Descendants of the Plains Woodland, Central Plains Tradition, Oneota, Omaha, or Oto-Missiouria are members of the Crow Tribe of Montana; Omaha Tribe of Nebraska; Otoe-Missouria Tribe of Indians, Oklahoma; Pawnee Nation of Oklahoma; Ponca Tribe of Indians of Oklahoma; Ponca Tribe of Nebraska; Three Affiliated Tribes of the Fort Berthold Reservation, North Dakota; and Wichita and Affiliated Tribes, Oklahoma.

The Arikara, Pawnee, and Wichita have entered into an agreement that human remains and funerary objects located between the Missouri River and the Smokey Hill River shall be claimed by the Pawnee Nation of Oklahoma. The Hidatsa have agreed that the Pawnee shall make the claim for the human remains and cultural items affiliated with the Plains Woodland from Nebraska. The Omaha Tribe of Nebraska; Otoe-Missouria Tribe of Indians, Oklahoma; Ponca Tribe of Indians of Oklahoma; and Ponca Tribe of Nebraska also have agreed to allow the Pawnee Nation of Oklahoma to claim the human remains.

Officials of the Hastings Museum have determined that, pursuant to 25 U.S.C. 3001 (9-10), the human remains described above represent the physical remains of four individuals of Native American ancestry. Officials of the Hastings Museum also have determined that, pursuant to 25 U.S.C. 3001 (2), there is a relationship of shared group identity that can be reasonably traced between the Native American human remains and the Crow Tribe of Montana; Omaha Tribe of Nebraska; Otoe-Missouria Tribe of Indians, Oklahoma; Pawnee Nation of Oklahoma; Ponca Tribe of Indians of Oklahoma; Ponca Tribe of Nebraska; Three Affiliated Tribes of the Fort Berthold Reservation, North Dakota; and Wichita and Affiliated Tribes, Oklahoma.

Representatives of any other Indian tribe that believes itself to be culturally affiliated with the human remains should contact Teresa Kreutzer-Hodson, Hastings Museum of Natural and Cultural History, 1330 N Burlington, PO Box 1286, Hastings, NE 68902, telephone (402) 461-2399, before June 30, 2008. Repatriation of the human remains to the Pawnee Nation of Oklahoma may proceed after that date if no additional claimants come forward.

The Hastings Museum of Natural and Cultural History is responsible for notifying the Crow Tribe of Montana; Omaha Tribe of Nebraska; Otoe-Missouria Tribe of Indians, Oklahoma; Pawnee Nation of Oklahoma; Ponca Tribe of Indians of Oklahoma; Ponca Tribe of Nebraska; Three Affiliated Tribes of the Fort Berthold Reservation, North Dakota; and Wichita and Affiliated Tribes, Oklahoma that this notice has been published.

Dated: March 27, 2008
Sherry Hutt,
Manager, National NAGPRA Program.

[FR Doc. E8-12000 Filed 5-28-08; 8:45 am]

BILLING CODE 4312-50-S